DEPARTMENT OF ENERGY

Federal Energy Regulatory Commission

[Docket No. RP01-463-001]

Gulf South Pipeline Company, LP; Notice of Compliance Filing

August 8, 2001.

Take notice that on August 6, 2001, Gulf South Pipeline Company, LP (Gulf South) tendered for filing as part of its FERC Gas Tariff, Sixth Revised Volume No. 1, the following tariff sheets to become effective July 30, 2001:

Substitute Second Revised Sheet No. 4000

Substitute Second Revised Sheet No. 4002

First Revised Sheet No. 4101

First Revised Sheet No. 4102

Substitute First Revised Sheet No. 4301

First Revised Sheet No. 4302

Substitute First Revised Sheet No. 4401

First Revised Sheet No. 4402

Gulf South states that the above tariff sheets have been filed to comply with the Order issued July 27, 2001, 96 FERC ¶ 61,154. In its original filing, Gulf South proposed changes to clarify its interactive auction procedures for PAL and ISS capacity. The Commission's order directed Gulf South to provide a time frame for winning bidder notification and to specify the method of notification. The compliance filing incorporates these changes.

Gulf South was also directed to eliminate from its tariff references to the contractual right of first refusal remaining in its firm pro forma service agreements. Those changes are included.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20333 Filed 8-13-01; 8:45 am]

BILLING CODE 6717-01-P